DEPARTMENT OF ENERGY

Office of Fossil Energy; National Coal Council

AGENCY: Department of Energy.

ACTION: Notice of open meeting.

SUMMARY: This notice announces a meeting of the National Coal Council. Federal Advisory Committee Act (Public Law 92-463, 86 Stat. 770) requires notice of these meetings be announced in the Federal Register.

DATES: Thursday, December 4, 2003, 9 a.m. to 12 Noon.

ADDRESSES: Fairmont Hotel, 2401 M Street, NW, Washington, DC.

FOR FURTHER INFORMATION CONTACT: Estelle W. Hebron, U.S. Department of Energy, Office of Fossil Energy, Washington, DC 20585. Phone: 202/586-6837.

SUPPLEMENTARY INFORMATION: Purpose of the Committee: The purpose of the National Coal Council is to provide advice, information, and recommendations to the Secretary of Energy on matters relating to coal and coal industry issues. The purpose of this meeting is to provide updates on several of these issues, which are summarized in the following agenda.

Tentative Agenda:

• Call to Order by Mr. Wes M. Taylor, Chairman.

• Remarks of Secretary of Energy, Spencer Abraham (invited).

• Council Business.

• Presentation by Mr. James Roewer, Exec. Director, Utility Solid Waste Activities Group, on New Source Review rulemaking.

• Presentation by Ms. Sharon Glacken, TXU Corporation, on Mercury rulemaking for coal-based generating plants.

• Presentation by (TBD), on Northeast blackout of August 14, 2003.

• Presentation by (DOE Representative), on Clean Coal Power Initiative.

• Other Business.

• Adjourn.

Public Participation: The meeting is open to the public. The Chairman of the NCC will conduct the meeting to facilitate the orderly conduct of business. If you would like to file a written statement with the Committee, you may do so either before or after the meeting. If you would to like to make oral statements regarding any of the items on the agenda, you should contact Estelle W. Hebron at the address or telephone number listed above. You must make your request for an oral statement at least five business days prior to the meeting, and reasonable provisions will be made to include the presentation on the agenda. Public comment will follow the 10 minute rule.

Transcripts: The transcript will be available for public review and copying within 30 days at the Freedom of Information Public Reading Room, 1E-190, Forrestal Building, 1000 Independence Avenue, SW., Washington, DC, between 9 a.m. and 4 p.m., Monday through Friday, except Federal holidays.

Issued in Washington, DC, on October 10, 2003.
Rachel M. Samuel,
Deputy Advisory Committee Management Officer.

[FR Doc. 03-26169 Filed 10-15-03; 8:45 am]

BILLING CODE 6450-01-P